DEPARTMENT OF COMMERCE

National Oceanic and Atmospheric Administration

50 CFR Part 648

[Docket No. 120109034-2171-01]

RIN 0648-XC456

Fisheries of the Northeastern United States; Northeast Multispecies Fishery; Trip Limit Adjustments for the Common Pool Fishery

AGENCY: National Marine Fisheries Service (NMFS), National Oceanic and Atmospheric Administration (NOAA), Commerce.

ACTION: Temporary rule; inseason adjustment of landing limits.

SUMMARY: This temporary rule increases the possession limits for Georges Bank cod, Gulf of Maine cod, and Southern New England/Mid-Atlantic yellowtail flounder for Northeast multispecies common pool vessels for the remainder of the 2012 fishing year. This rule also decreases the trip limits for white hake and pollock. This is intended to facilitate the harvest of Georges Bank cod, Gulf of Maine cod, and Southern New England/Mid-Atlantic yellowtail flounder to allow the total catch of these stocks to approach their pertinent common pool sub-annual catch limits sub-annual catch limits and prevent the overharvest of the white hake and pollock sub-annual catch limits.

DATES: Effective February 11, 2013, through April 30, 2013.

FOR FURTHER INFORMATION CONTACT: Brett Alger, Fisheries Management Specialist, 978-675-2153, Fax 978-281-9135.

SUPPLEMENTARY INFORMATION: Regulations governing the Northeast (NE) multispecies fishery are found at 50 CFR part 648, subpart F. The regulations at § 648.86(o) authorize the NE Regional Administrator (RA) to adjust the possession limits for common pool vessels in order to optimize the harvest of NE regulated multispecies by preventing the overharvest or underharvest of the pertinent common pool sub-annual catch limits (ACLs). As of January 30, 2013, Gulf of Maine (GOM) cod, Georges Bank (GB) cod, and Southern New England (SNE)/Mid-Atlatnic (MA) yellowtail flounder catch is well below their respective quotas, and conversely, catch of white hake and pollock is relatively high with approximately 3 months remaining in fishing year (FY) 2012. Table 1 includes the common pool sub-ACL for each stock affected by this action and the amount that has been caught as of February 7, 2013.

Table 1—Sub-ACLs and Current Catch of Five NE Multispecies Stocks in the Common Pool
| Sub-ACL (lb) | Sub-ACL (mt) | Percent harvested
GOM Cod | 176,414 | 80 | 35.5
GB Cod | 179,489 | 81 | 20.3
SNE/MA Yellowtail Flounder | 338,099 | 153 | 6.1
White Hake | 57,896 | 26 | 88.7
Pollock | 180,323 | 82 | 77.8

Framework Adjustment 47 (FW 47) to the NE Multispecies Fishery Management Plan (FMP) established the current trip limits for the common pool vessels fishing under a Category A day-at-sea (DAS) (77 FR 26104). Since then, there have been no adjustments to any trip limits for any common pool vessels. Table 2 contains the current landing limit and the new landing limit being implemented by this action.

Table 2—The Current and New Trip Limits for Five NE Multispecies Stocks in the Common Pool
| Current DAS limit | New DAS limit
GOM Cod | 650 lb (294.8 kg) per DAS up to 2,000 lb (907.2 kg) per trip | 2,000 lb (907.2 kg) per DAS up to 6,000 lb (2,721 kg) per trip.
GB Cod | 2,000 lb (907.2 kg) per DAS up to 20,000 lb (9,072 kg) per trip | 3,000 lb (1,361 kg) per DAS up to 30,000 lb (13,608 kg) per trip.
SNE/MA Yellowtail Flounder | 1,500 lb (680.4 kg) per DAS up to 4,500 lb (2,041 kg) per trip | 5,000 lb (2,268 kg) per DAS up to 15,000 lb (6,804 kg) per trip.
White Hake | 1,500 lb (680.4 kg) per trip | 500 lb (226.8 kg) per trip.
Pollock | Unlimited | 10,000 lb (4,536 kg) per trip.

The regulations require that the Handgear B (HB) trip limit for GOM and GB cod be adjusted proportionally (rounded up to the nearest 25 lb (11.3 kg)) if either the GOM or GB cod trip limit applicable to a vessel fishing under a NE multispecies DAS permit is adjusted. Under the NE Multispecies FMP, the initial GOM cod trip limits for NE multispecies common pool vessels fishing under a Category A DAS is set at 800 lb (362.9 kg) per DAS. However, FY 2012 began with a GOM cod trip limit of 650 lb (294.8 kg) per DAS, as implemented through FW 47, due to a reduced GOM cod sub-ACL for the common pool. Ultimately, the HB trip limit for GOM cod is adjusted according to trip limit in the FMP (i.e., 800 lb (362.9 kg) per DAS), not what was set under FW 47. For GB cod, the FMP establishes a limit of 2,000 lb (907.2 kg) per DAS and FW 47 did not implement anything different from that.

The new landing limit for GOM cod is 2,000 lb (907.2 kg) per DAS, an increase of 150 percent from 800 lb (362.9 kg) per DAS. Based on this new trip limit for GOM cod for Category A DAS vessels, the new GOM cod trip limit for HB vessels is 200 lb (90.7 kg) per trip (75 lb (34.0 kg) per trip increased by 150 percent = 187.5 lb (85.0 kg) per trip, rounded up to 200 lb (90.7 kg) per trip). The new landing limit for GB cod is 3,000 lb (1,361 kg) per DAS, an increase of 50 percent from the original landing limit of 2,000 lb (907.2 kg) per DAS. Based on the new trip limit for GB cod for Category A DAS vessels, the new GB cod trip limit for HB vessels is 125 lb (56.7 kg) per trip (75 lb (34.0 kg) per trip increased by 50 percent = 112.5 lb (51.0 kg) per trip, rounded up to 125 lb (56.7 kg) per trip). Increasing these trip limits does not jeopardize current conservation objectives.

The trip limit adjustments for Category A DAS and HB vessels are effective February 11, 2013, through April 30, 2013. This action does not change the current cod trip limit for vessels with a limited access Handgear A permit (300 lb (136.1. kg) per trip) or Small Vessel Category permit (300 lb (136.1 kg) of cod, haddock, and yellowtail flounder combined). Catch will continue to be monitored through dealer-reported landings, vessel monitoring system catch reports, and other available information, and if necessary, additional adjustments to common pool management measures may be made.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. The regulations at § 648.86(o) grant the RA authority to adjust the NE multispecies trip limits for common pool vessels in order to prevent the overharvest or underharvest of the pertinent common pool sub-ACLs. The information informing this action only very recently became available. Given this fact, this action increases the trip limits for GOM cod, GB cod, and SNE/MA yellowtail flounder to reduce the probability of underharvesting the common pool sub-ACLs. A resulting delay in the trip limit increases of these three stocks could result in less revenue for the fishing industry and be counter to the objective of achieving optimum yield. A resulting delay in the trip limit decreases for white hake and pollock reduces the probability of exceeding the applicable common pool sub-ACLs. If the sub-ACLs are exceeded, this would undermine conservation objectives and trigger the implementation of accountability measures that will have negative economic impacts on the participants in the common pool. Given this fact, the time necessary to provide for prior notice and comment would prevent NMFS from implementing the necessary trip limit adjustments in a timely manner.

The AA further finds, pursuant to 5 U.S.C. 553(d)(3), good cause to waive the 30-day delayed effectiveness period for the reasons stated above.

Authority: 16 U.S.C. 1801 et seq.

Dated: February 11, 2013.
James P. Burgess,
Acting Deputy Director, Office of Sustainable Fisheries, National Marine Fisheries Service.

[FR Doc. 2013-03476 Filed 2-11-13; 4:15 pm]

BILLING CODE 3510-22-P